DEPARTMENT OF VETERANS AFFAIRS

[OMB Control No. 2900-0605]

Agency Information Collection Activities Under OMB Review

AGENCY: Office of General Counsel, Department of Veterans Affairs.

ACTION: Notice.

SUMMARY: In compliance with the Paperwork Reduction Act (PRA) of 1995 (44 U.S.C. 3501-3521), this notice announces that the Office of General Counsel (OGC), Department of Veterans Affairs, has submitted the collection of information abstracted below to the Office of Management and Budget (OMB) for review and comment. The PRA submission describes the nature of the information collection and its expected cost and burden; it includes the actual data collection instrument.

DATES: Comments must be submitted on or before April 27, 2005.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0605.”

Send comments and recommendations concerning any aspect of the information collection to VA's OMB Desk Officer, OMB Human Resources and Housing Branch, New Executive Office Building, Room 10235, Washington, DC 20503, (202) 395-7316. Please refer to “OMB Control No. 2900-0605” in any correspondence.

SUPPLEMENTARY INFORMATION: Title: Application for Accreditation as a Claims Agent, VA Form 21a.

OMB Control Number: 2900-0605.

Type of Review: Extension of a currently approved collection.

Abstract: Applicants seeking accreditation as claims agents to represent benefits claimants before Department of Veterans Affairs must complete VA Form 21a. The applicant is required to file the application with VA General Counsel to establish initial eligibility for accreditation. The information requested is necessary to establish the statutory and regulatory eligibility requirements, e.g., good character and reputation which includes basic identifying information, information concerning past representation, military service, employment, criminal activity and mental health of the applicant. VA uses the information to determine the applicant's eligibility for accreditation as a claims agent.

An agency may not conduct or sponsor, and a person is not required to respond to a collection of information unless it displays a currently valid OMB control number. The Federal Register Notice with a 60-day comment period soliciting comments on this collection of information was published on December 23, 2004, at page 76976.

Affected Public: Individuals or households.

Estimated Annual Burden: 15 hours.

Estimated Average Burden Per Respondent: 45 minutes.

Frequency of Response: On occasion.

Estimated Number of Respondents: 20.

Dated: March 17, 2005.
By direction of the Secretary.
Martin Hill,
Management Analyst, Records Management Service.

[FR Doc. E5-1328 Filed 3-25-05; 8:45 am]

BILLING CODE 8320-01-P